DEPARTMENT OF HOMELAND SECURITY

Coast Guard

33 CFR Part 165

[Docket No. USCG-2025-0658]

Regulated Navigation Area; Lake Washington, Seattle, WA

AGENCY: Coast Guard, DHS.

ACTION: Notification of enforcement of regulation.

SUMMARY: The Coast Guard will enforce a regulated navigation area on Lake Washington, Seattle Washington immediately before and after Seafair events from 8 a.m. to 8 p.m., each day from July 31, 2025, through August 3, 2025. This action is to provide for the safety of life on navigable waterways throughout the duration of this event. The location of this regulated navigation area on portions of Lake Washington, Seattle, Washington is specified in the regulation. During the enforcement periods all vessels transiting the regulated navigation area must proceed at a speed which creates minimum wake, seven (7) miles per hour or less, unless a higher minimum speed is necessary to maintain bare steerageway.

DATES: The regulation in 33 CFR 165.1341 will be enforced immediately before and after Seafair events from 8 a.m. to 8 p.m., each day from July 31, 2025, through August 3, 2025.

FOR FURTHER INFORMATION CONTACT: If you have questions about this notification of enforcement, call or email Lieutenant Anthony Pinto, U.S. Coast Guard, Sector Puget Sound, Waterways Management Division; by telephone 206-217-6051, or email SectorPugetSoundWWM@uscg.mil.

SUPPLEMENTARY INFORMATION: The Coast Guard will enforce the regulated navigation area in 33 CFR 165.1341 immediately before and after Seafair events from 8 a.m. to 8 p.m., each day from July 31, 2025, through August 3, 2025. This action is being taken to provide for the safety of life on navigable waterways during this event. Seafair will be having several events sporadically throughout the day. Before and after these events, the Coast Guard will be enforcing the regulated navigation area to protect the public from the potential hazards of excessive vessel traffic associated with these events. The regulation, § 165.1341(a), specifies the location of the regulated navigation area encompassing portions of Lake Washington, Seattle, Washington. During the enforcement periods, as reflected in § 165.1341(c), all vessels transiting the regulated navigation area must proceed at a speed which creates minimum wake, seven (7) miles per hour or less, unless a higher minimum speed is necessary to maintain bare steerageway.

In addition to this notification of enforcement in the Federal Register, the Coast Guard plans to provide notification of the enforcement period via marine information broadcast and Local Notice to Mariners.

Dated: July 23, 2025.
Mark A. McDonnell,
Captain, U.S. Coast Guard, Captain of the Port, Sector Puget Sound.

[FR Doc. 2025-14220 Filed 7-25-25; 8:45 am]

BILLING CODE 9110-04-P